FEDERAL COMMUNICATIONS COMMISSION

47 CFR Part 73

[DA 00-1392; MM Docket No. 99-351; RM-9785]

Radio Broadcasting Services; Holbrook, AZ

AGENCY: Federal Communications Commission.

ACTION: Final rule.

SUMMARY: This document substitutes Channel 253C1 for Channel 221C1 at Holbrook, Arizona, and modifies the license for Station KZUA-FM accordingly, as requested on behalf of Navajo Broadcasting Company, Inc., See 64 FR 73461, December 30, 1999. Coordinates used for Channel 253C1 at Holbrook, Arizona, are 34-41-25 NL and 110-06-00 WL.

DATES: Effective August 7, 2000.

FOR FURTHER INFORMATION CONTACT: Nancy Joyner, Mass Media Bureau, (202) 418-2180.

SUPPLEMENTARY INFORMATION: This is a synopsis of the Commission's Report and Order, MM Docket No. 99-351, adopted June 14, 2000, and released June 23, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

List of Subjects in 47 CFR Part 73

Radio broadcasting.

Part 73 of title 47 of the Code of Federal Regulations is amended as follows:

PART 73—[AMENDED]

1. The authority citation for part 73 continues to read as follows:

Authority: 47 U.S.C. 154, 303, 334, 336.

§ 73.202 [Amended]

2. Section 73.202(b), the Table of FM Allotments under Arizona, is amended by removing Channel 221C1 at Holbrook, and adding Channel 253C1 at Holbrook.

Federal Communications Commission.
John A. Karousos,
Chief, Allocations Branch, Policy and Rules Division, Mass Media Bureau.

[FR Doc. 00-18292 Filed 7-19-00; 8:45 am]

BILLING CODE 6712-01-P